DEPARTMENT OF ENERGY

Federal Energy Regulatory Commission

[Project No. 9988-015]

Augusta Canal Authority; Notice of Availability of Environmental Assessment

January 6, 2009.

In accordance with the National Environmental Policy Act of 1969 and the Federal Energy Regulatory Commission's regulations, 18 CFR Part 380 (Order No. 486, 52 FR 47897), the Office of Energy Projects has reviewed the application for a subsequent license for the 2.125-megawatt King Mill Project, located on the Augusta Canal in Richmond County, Augusta, Georgia, and issued an Environmental Assessment (EA) on December 11, 2008. In the EA, Commission staff analyze the potential environmental effects of relicensing the project and conclude that issuing a subsequent license for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access documents. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Comments on the EA should be filed within 30 days from the issuance date of this notice, and should be addressed to the Secretary, Federal Energy Regulatory Commission, 888 First Street, NE., Room 1-A, Washington, DC 20426. Please affix King Mill Project No. 9988-015 to all comments. Comments may be filed electronically via Internet in lieu of paper. The Commission strongly encourages electronic filings. See 18 CFR 385.2001(a)(1)(iii) and the instructions on the Commission's Web site under the eFiling link. For further information, contact Sarah Florentino at (202) 502-6863.

Kimberly D. Bose,
Secretary.

[FR Doc. E9-332 Filed 1-9-09; 8:45 am]

BILLING CODE 6717-01-P